DEPARTMENT OF ENERGY

Federal Energy Regulatory Commission

Combined Notice of Filings #1

Take notice that the Commission received the following exempt wholesale generator filings:

Docket Numbers: EG25-20-000.

Applicants: RWE Clean Energy, LLC.

Description: Westside Canal 2A, LLC submits Notice of Self-Certification of Exempt Wholesale Generator Status.

Filed Date: 10/30/24.

Accession Number: 20241030-5280.

Comment Date: 5 p.m. ET 11/20/24.

Take notice that the Commission received the following electric rate filings:

Docket Numbers: ER10-2437-022.

Applicants: Arizona Public Service Company.

Description: Notice of Change in Status of Arizona Public Service Company.

Filed Date: 10/29/24.

Accession Number: 20241029-5285.

Comment Date: 5 p.m. ET 11/19/24.

Docket Numbers: ER19-2534-003; ER19-2434-003; ER24-729-002; ER24-738-002; ER24-1982-002.

Applicants: Wellesley BESS LLC , PNY BESS LLC, Holyoke BESS LLC, Citizens Imperial Solar LLC, Citizens Energy Corporation.

Description: Notice of Non-Material Change in Status of Citizens Energy Corporation, et al.

Filed Date: 10/29/24.

Accession Number: 20241029-5284.

Comment Date: 5 p.m. ET 11/19/24.

Docket Numbers: ER22-381-012; ER10-1781-008; ER19-2626-010; ER21-714-011; ER22-399-006; ER25-263-000.

Applicants: Dunns Bridge Energy Storage, LLC, Meadow Lake Solar Park LLC, Indiana Crossroads Wind Farm LLC, Rosewater Wind Farm LLC, Northern Indiana Public Service Company, Dunns Bridge Solar Center, LLC.

Description: Notice of Non-Material Change in Status of Dunns Bridge Solar Center, LLC.

Filed Date: 10/29/24.

Accession Number: 20241029-5282.

Comment Date: 5 p.m. ET 11/19/24.

Docket Numbers: ER22-2424-004; ER19-53-007; ER22-2426-004; ER22-2428-004; ER23-2512-002; ER23-2513-002.

Applicants: SR Canadaville Lessee, LLC, SR Canadaville, LLC, SR McKellar Lessee, LLC, SR McKellar, LLC, SR Millington, LLC, SR Bell Buckle, LLC.

Description: Notice of Non-Material Change in Status of SR Bell Buckle, LLC, et al.

Filed Date: 10/30/24.

Accession Number: 20241030-5287.

Comment Date: 5 p.m. ET 11/20/24.

Docket Numbers: ER23-2439-002.

Applicants: Cavalier Solar A2, LLC.

Description: Notice of Change in Status of Cavalier Solar A2, LLC.

Filed Date: 10/29/24.

Accession Number: 20241029-5289.

Comment Date: 5 p.m. ET 11/19/24.

Docket Numbers: ER24-1035-002.

Applicants: 20SD 8me LLC.

Description: Notice of Change in Status of 20SD 8me LLC.

Filed Date: 10/29/24.

Accession Number: 20241029-5288.

Comment Date: 5 p.m. ET 11/19/24.

Docket Numbers: ER24-1698-001.

Applicants: AES ES Alamitos 2, LLC.

Description: Notice of Change in Status of AES ES Alamitos 2, LLC.

Filed Date: 10/29/24.

Accession Number: 20241029-5287.

Comment Date: 5 p.m. ET 11/19/24.

Docket Numbers: ER24-3127-000.

Applicants: Sun Pond, LLC.

Description: Supplement to 09/27/2024 Sun Pond, LLC tariff filing.

Filed Date: 10/29/24.

Accession Number: 20241029-5231.

Comment Date: 5 p.m. ET 11/8/24.

Docket Numbers: ER25-289-000.

Applicants: Pacific Gas and Electric Company.

Description: § 205(d) Rate Filing: Amendment to WAPA New Melones (RS 60) to be effective 1/1/2025.

Filed Date: 10/31/24.

Accession Number: 20241031-5000.

Comment Date: 5 p.m. ET 11/21/24.

Docket Numbers: ER25-290-000.

Applicants: Pacific Gas and Electric Company.

Description: § 205(d) Rate Filing: Amendment to WAPA POA (RS 228) to be effective 1/1/2025.

Filed Date: 10/31/24.

Accession Number: 20241031-5001.

Comment Date: 5 p.m. ET 11/21/24.

Docket Numbers: ER25-291-000.

Applicants: Pacific Gas and Electric Company.

Description: Tariff Amendment: Termination of Trinity Public Utilities District (TO SA 65) to be effective 1/1/2025.

Filed Date: 10/31/24.

Accession Number: 20241031-5002.

Comment Date: 5 p.m. ET 11/21/24.

Docket Numbers: ER25-292-000.

Applicants: Pacific Gas and Electric Company.

Description: § 205(d) Rate Filing: Q3 2024 Quarterly Filing of City and County of San Francisco's WDT SA (SA 275) to be effective 9/30/2024.

Filed Date: 10/31/24.

Accession Number: 20241031-5003.

Comment Date: 5 p.m. ET 11/21/24.

Docket Numbers: ER25-293-000.

Applicants: Pacific Gas and Electric Company.

Description: § 205(d) Rate Filing: Extension to SMUD (TO SA 119) to be effective 1/1/2025.

Filed Date: 10/31/24.

Accession Number: 20241031-5004.

Comment Date: 5 p.m. ET 11/21/24.

Docket Numbers: ER25-294-000.

Applicants: Pacific Gas and Electric Company.

Description: § 205(d) Rate Filing: Amendment to WAPA SA 59 for TPUD (TO SA 59) to be effective 1/1/2025.

Filed Date: 10/31/24.

Accession Number: 20241031-5005.

Comment Date: 5 p.m. ET 11/21/24.

Docket Numbers: ER25-295-000.

Applicants: Pacific Gas and Electric Company.

Description: § 205(d) Rate Filing: Amendment to WAPA SA 17 for TPUD to be effective 1/1/2025.

Filed Date: 10/31/24.

Accession Number: 20241031-5006.

Comment Date: 5 p.m. ET 11/21/24.

Docket Numbers: ER25-296-000.

Applicants: New England Power Pool Participants Committee.

Description: § 205(d) Rate Filing: Nov 2024 Membership Filing to be effective 10/1/2024.

Filed Date: 10/31/24.

Accession Number: 20241031-5008.

Comment Date: 5 p.m. ET 11/21/24.

Docket Numbers: ER25-297-000.

Applicants: Southwest Power Pool, Inc.

Description: § 205(d) Rate Filing: Revisions to Attachment W to Update Index of Grandfathered Agreements (RR 644) to be effective 1/1/2025.

Filed Date: 10/31/24.

Accession Number: 20241031-5042.

Comment Date: 5 p.m. ET 11/21/24.

Docket Numbers: ER25-298-000.

Applicants: Green Mountain Power Corporation.

Description: Green Mountain Power Corporation submits a Notice of Cancellation of a Network Integration Transmission Service Agreement and Local Network Operating Agreement of ISO New England Tariff.

Filed Date: 10/30/24.

Accession Number: 20241030-5281.

Comment Date: 5 p.m. ET 11/20/24.

Docket Numbers: ER25-299-000.

Applicants: FL Solar 7, LLC.

Description: Compliance filing: Notice of Change in Status Reporting Passive Tax Equity Investor to be effective 12/31/2024.

Filed Date: 10/31/24.

Accession Number: 20241031-5068.

Comment Date: 5 p.m. ET 11/21/24.

Docket Numbers: ER25-300-000.

Applicants: ITC Great Plains, LLC, Southwest Power Pool, Inc.

Description: § 205(d) Rate Filing: ITC Great Plains, LLC submits tariff filing per 35.13(a)(2)(iii: ITC Great Plains, LLC Formula Rate Revisions to be effective 1/1/2025.

Filed Date: 10/31/24.

Accession Number: 20241031-5093.

Comment Date: 5 p.m. ET 11/21/24.

Docket Numbers: ER25-301-000.

Applicants: Bartonsville Energy Facility, LLC.

Description: § 205(d) Rate Filing: Revised Market-Based Rate Tariff Filing and Notice of Change in Status to be effective 12/31/2024.

Filed Date: 10/31/24.

Accession Number: 20241031-5122.

Comment Date: 5 p.m. ET 11/21/24.

Docket Numbers: ER25-302-000.

Applicants: Southwest Power Pool, Inc.

Description: § 205(d) Rate Filing: L and O Power Cooperative Formula Rate Revisions to be effective 1/1/2025.

Filed Date: 10/31/24.

Accession Number: 20241031-5126.

Comment Date: 5 p.m. ET 11/21/24.

Docket Numbers: ER25-303-000.

Applicants: DWW Solar II, LLC.

Description: § 205(d) Rate Filing: Revised Market-Based Rate Tariff Filing to be effective 12/31/2024.

Filed Date: 10/31/24.

Accession Number: 20241031-5128.

Comment Date: 5 p.m. ET 11/21/24.

Docket Numbers: ER25-304-000.

Applicants: Hecate Energy Highland LLC.

Description: § 205(d) Rate Filing: Revised Market-Based Rate Tariff Filing and Notice of Change in Status to be effective 12/31/2024.

Filed Date: 10/31/24.

Accession Number: 20241031-5131.

Comment Date: 5 p.m. ET 11/21/24.

Docket Numbers: ER25-305-000.

Applicants: Southern California Edison Company.

Description: § 205(d) Rate Filing: SCE 2025 RSBAA Update to be effective 1/1/2025.

Filed Date: 10/31/24.

Accession Number: 20241031-5139.

Comment Date: 5 p.m. ET 11/21/24.

Docket Numbers: ER25-306-000.

Applicants: Eversource Energy Service Company (as agent), ISO New England Inc.

Description: § 205(d) Rate Filing: Eversource Energy Service Company (as agent) submits tariff filing per 35.13(a)(2)(iii: CL&P Refund of Differences for Post Retirement Benefits other than Pensions to be effective 1/1/2025.

Filed Date: 10/31/24.

Accession Number: 20241031-5156.

Comment Date: 5 p.m. ET 11/21/24.

Take notice that the Commission received the following electric securities filings:

Docket Numbers: ES25-12-000.

Applicants: Ameren Illinois Company.

Description: Application Under Section 204 of the Federal Power Act for Authorization to Issue Securities of Ameren Illinois Company.

Filed Date: 10/29/24.

Accession Number: 20241029-5276.

Comment Date: 5 p.m. ET 11/19/24.

Docket Numbers: ES25-13-000.

Applicants: Union Electric Company d/b/a Ameren Missouri.

Description: Application Under Section 204 of the Federal Power Act for Authorization to Issue Securities of Union Electric Company.

Filed Date: 10/29/24.

Accession Number: 20241029-5277.

Comment Date: 5 p.m. ET 11/19/24.

Docket Numbers: ES25-14-000.

Applicants: Lucky Corridor, LLC.

Description: Application Under Section 204 of the Federal Power Act for Authorization to Issue Securities of Lucky Corridor, LLC.

Filed Date: 10/29/24.

Accession Number: 20241029-5278.

Comment Date: 5 p.m. ET 11/19/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: October 31, 2024.
Carlos D. Clay,
Acting Deputy Secretary.

[FR Doc. 2024-25842 Filed 11-6-24; 8:45 am]

BILLING CODE 6717-01-P